DEPARTMENT OF COMMERCE

Foreign-Trade Zones Board

[S-100-2013]

Foreign-Trade Zone 79—Tampa, Florida, Foreign-Trade Subzone 79C—Cutrale Citrus Juices USA, Inc., Approval of Additional Subzone Sites, Dade City and Leesburg, Florida

On June 24, 2013, the Acting Executive Secretary of the Foreign-Trade Zones (FTZ) Board docketed an application submitted by the City of Tampa, grantee of FTZ 79, requesting two additional sites for Subzone 79C, subject to the existing activation limit of FTZ 79, on behalf of Cutrale Citrus Juices USA, Inc.

The application was processed in accordance with the FTZ Act and Regulations, including notice in the Federal Register inviting public comment (78 FR 38922, 6/28/2013). The FTZ staff examiner reviewed the application and determined that it meets the criteria for approval.

Pursuant to the authority delegated to the FTZ Board's Executive Secretary (15 CFR Sec. 400.36(f)), the application to establish two additional sites of Subzone 79C is approved, subject to the FTZ Act and the Board's regulations, including Section 400.13, and subject to FTZ 79's 2,000-acre activation limit.

Dated: September 3, 2013.
Andrew McGilvray,
Executive Secretary.

[FR Doc. 2013-22030 Filed 9-9-13; 8:45 am]

BILLING CODE 3510-DS-P